DEPARTMENT OF COMMERCE

Patent and Trademark Office

Submission for OMB Review; Comment Request; “Trademark Petitions”

The United States Patent and Trademark Office (USPTO) will submit to the Office of Management and Budget (OMB) for clearance the following proposal for collection of information under the provisions of the 1995 Paperwork Reduction Act.

Agency: United States Patent and Trademark Office, Commerce.

Title: Trademark Petitions.

OMB Control Number: 0651-0061.

Form Number(s): N/A.

Type of Request: Regular.

Number of Respondents: 4,768 responses per year.

Average Hours per Response: The USPTO estimates that it will take approximately between 35 minutes (0.58 hours) to 75 minutes (1.25 hours) to complete the items in this collection. This includes the time to gather the necessary information, create the documents, and submit the completed request to the USPTO.

Burden Hours: 4,333.63 hours per year.

Cost Burden: $53,507.84 per year.

Needs and Uses: The public uses this information collection for a variety of private business purposes related to establishing and enforcing trademark rights. The USPTO uses the information described in this collection to process letters of protest, requests to make special, responses to petition inquiry letters, petitions to make special, requests to restore a filing date, and requests for reinstatement. Information relating to the registration of a trademark is made publicly available by the USPTO. The release of information in a letter of protest is controlled and may be available upon request only.

Affected Public: Individuals or households; business or other for-profit organizations; not-for-profit organizations.

Frequency: On occasion.

Respondent's Obligation: Required to Obtain or Retain Benefits.

OMB Desk Officer: Nicholas A. Fraser, email: Nicholas_A._Fraser@omb.eop.gov.

Once submitted, the request will be publicly available in electronic format through www.regino.gov. Follow the instructions to view the Department of Commerce collections currently under review by OMB.

Further information can be obtained by:

• Email: InformationCollection@uspto.gov. Include “0651-0061 copy request” in the subject line of the message.

• Mail: Marcie Lovett, Records and Information Governance Division Director, Office of the Chief Technology Officer, United States Patent and Trademark Office, P.O. Box 1450, Alexandria, VA 22313-1450.

Written comments and recommendations for the proposed information collection should be sent on or before August 6, 2018 to Nicholas A. Fraser, OMB Desk Officer, via email to Nicholas_A._Fraser@omb.eop.gov, or by fax to 202-395-5167, marked to the attention of Nicholas A. Fraser.

Marcie Lovett,
Director, Records and Information Governance Division.

[FR Doc. 2018-14384 Filed 7-3-18; 8:45 am]

BILLING CODE 3510-16-P